DEPARTMENT OF HEALTH AND HUMAN SERVICES

National Institutes of Health

Center for Scientific Review; Amended Notice of Meeting

Notice is hereby given of a change in the meeting of the Center for Scientific Review Special Emphasis Panel, September 16, 2009, 11 a.m. to September 18, 2009, 3 p.m., National Institutes of Health, 6701 Rockledge Drive, Bethesda, MD, 20892 which was published in the Federal Register on September 11, 2009, 74 FR 46781.

The meeting has been changed to an AED meeting to be held on October 29, 2009, 8:30 a.m. to October 30, 2009, 3 p.m. The meeting is closed to the public.

Dated: September 18, 2009.
Jennifer Spaeth,
Director, Office of Federal Advisory Committee Policy.

[FR Doc. E9-23081 Filed 9-25-09; 8:45 am]

BILLING CODE 4140-01-M